DEPARTMENT OF HEALTH AND HUMAN SERVICES

National Institutes of Health

Office of the Director, National Institutes of Health Notice of Meeting

Pursuant to section 10(a) of the Federal Advisory Committee Act, as amended (5 U.S.C. App.), notice is hereby given of a meeting of the Advisory Committee to the Director, National Institutes of Health.

This meeting is open to the public but is being held by teleconference only. No physical meeting location is provided for any interested individuals to listen to and/or participate in the meeting. Any individual interested in listening to the meeting discussions must call 800-779-9040 and use Participant Passcode 5055308 for access to the meeting. Individuals needing special assistance should notify the Contact Person listed below in advance of the meeting.

Name of Committee: Advisory Committee to the Director, National Institutes of Health.

Date: April 21, 2016.

Time: 4:00 p.m. to 6:00 p.m. EDT.

Agenda: The HeLa Genome Data Access working group will report on the evaluation of requests to access HeLa cell genome sequence data. The Clinical Center working group will present their final report to the Advisory Committee to the Director, NIH.

Place: National Institutes of Health, (Telephone Conference Call), Dial In Number 800-779-9040, Participant Passcode: 5055308.

Contact Person: Gretchen Wood, Staff Assistant, National Institutes of Health, Office of the Director, One Center Drive, Building 1, Room 126, Bethesda, MD 20892, Telephone: 301-496-4272, Email: woodgs@od.nih.gov.

Any interested person may file written comments with the committee by forwarding their statement electronically to the Contact Person at woodgs@od.nih.gov. The statement should include the name, address, telephone number and when applicable, the business or professional affiliation of the interested of the interested person.

Additional information for this meeting including both working group reports will be posted, when available, on the Advisory Committee to the Director, NIH, Web site (http://acd.od.nih.gov). Additional information about the HeLA Genome Data Access working group is available at http://acd.od.nih.gov/hlgda.htm and additional information about the Clinical Center working group is available at http://acd.od.nih.gov/redteam.htm.

Dated: March 15, 2016.
Anna Snouffer,
Deputy Director, Office of Federal Advisory Committee Policy.

[FR Doc. 2016-06333 Filed 3-21-16; 8:45 am]

BILLING CODE 4140-01-P